FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 19, 2008.

A. Federal Reserve Bank of Minneapolis (Jacqueline G. King, Community Affairs Officer) 90 Hennepin Avenue, Minneapolis, Minnesota 55480-0291:

1. JCLL 2007 Irevocable Trust B, JCLL 2007 Irrevocable Trust T, and James A. McLean, as Trustee of the trusts, all of Bozeman, Montana; Plotinus Trust, Ennis, Montana, and Peter T. Combs, Alamos, Sonora, Mexico, as an individual and as Trustee of the trust; C. Bruce Combs, Bozeman, Montana; Timothy Combs, Ennis, Montana; and Virginia B. Combs, Alamos, Sonora, Mexico, as individuals, collectively part of a group acting in concert, to retain and acquire control of Jackass Creek Land & Livestock Company, Ennis, Montana, and thereby indirectly retain and acquire control of the First Madison Valley Bank, Ennis, Montana, and the First Boulder Valley Bank, Boulder, Montana.

Board of Governors of the Federal Reserve System, April 29, 2008.
Robert deV. Frierson,
Deputy Secretary of the Board.

[FR Doc. E8-9670 Filed 5-1-08; 8:45 am]

BILLING CODE 6210-01-S